FEDERAL MARITIME COMMISSION

Notice of Agreement Filed

The Commission hereby gives notice of filing of the following agreement under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreement are available through the Commission's website (www.fmc.gov) or by contacting the Office of Agreements at (202) 523-5793 or tradeanalysis@fmc.gov.

Agreement No.: 201227-006.

Title: Pacific Ports Operational Improvements Agreement.

Parties: Ocean Carrier Equipment Management Association, Inc., FMC Agreement No. 011284; West Coast MTO Agreement, FMC Agreement No. 201143; Maersk Line A/S; CMA CGM S.A., American President Lines, LLC.; COSCO SHIPPING Lines Co., Ltd.; Evergreen Line Joint Service Agreement, FMC Agreement No. 011982; Hapag-Lloyd AG, Hapag-Lloyd USA (acting as a single party); HMM Company Limited; Zim Integrated Shipping Services; MSC Mediterranean Shipping Company SA; Matson Navigation Company, Inc.; Ocean Network Express Pte. Ltd.; Wan Hai Lines Ltd.; APM Terminals Pacific, LLC; Fenix Marine Services, Ltd.; International Transportation Service LLC; LBCT LLC dba Long Beach Container Terminal LLC; Everport Terminal Services, Inc.; Total Terminals International LLC; West Basin Container Terminal LLC; Pacific Maritime Services, L.L.C.; SSA (Pier A), LLC; Trapac LLC; Yusen Terminals, LLC; SSA Terminals, LLC; SSA Terminals (Oakland), LLC; SSA Terminals (Seattle), LLC; Sea Star Stevedoring Company, Inc.; Washington United Terminals, Inc.

Filing Party: Joshua Stein, Esq.; Cozen O'Connor; 1200 19th Street, NW; Washington, DC 20036.

Synopsis: The Amendment makes several updates to the membership of the Agreement. Specifically, the Amendment adds Ocean Network Express Pte. Ltd. and Wan Hai Lines Ltd. as Parties to the Agreement. The Amendment also deletes APL Co. Pte. Ltd.; Hamburg-Süd KG; Alianca Navegacao e Logistica Ltda.; Companhia Libra de Navegacao; Compania Libra de Navegacion Uruguay S.A.; Mitsui O.S.K. Lines, Ltd.; Nippon Yusen Kaisha Line; Kawasaki Kisen Kaisha, Ltd. as parties to the Agreement. In addition, the Amendment reflects changes to the names and/or addresses of American President Lines, LLC; Hapag-Lloyd USA; HMM Company Limited; APM Terminals Pacific LLC; Fenix Marine Services, Ltd.; International Transportation Service LLC; LBCT LLC dba Long Beach Container Terminal LLC; Total Terminals International LLC; SSA (Pier A), LLC; Trapac LLC; and Yusen Terminals LLC.

Proposed Effective Date: 11/11/2024.

Location: https://www2.fmc.gov/FMC.Agreements.Web/Public/AgreementHistory/16276.

Dated: October 4, 2024.
Alanna Beck,
Federal Register Alternate Liaison Officer.

[FR Doc. 2024-23396 Filed 10-8-24; 8:45 am]

BILLING CODE 6730-02-P